DEPARTMENT OF AGRICULTURE

Forest Service

Del Norte Resource Advisory Committee (RAC)

AGENCY: Forest Service, USDA.

ACTION: Notice of meeting.

SUMMARY: The Del Norte Resource Advisory Committee (RAC) will meet in Crescent City, California. The committee meeting is authorized under the Secure Rural Schools and Community Self-Determination Act (Pub. L. 110-343) and in compliance with the Federal Advisory Committee Act. The purposes of the meeting is orientating new committee members to the Secure Rural Schools Act, Federal Advisory Committees Act, and guidelines for Title II and receive public comment on the meeting subjects and proceedings.

DATES: The meeting will be held April 6, 2010, from 6 p.m. to 8:30 p.m.

ADDRESSES: The meeting will be held at the Del Norte County Unified School District, Board Room, 301 West Washington Boulevard, Crescent City, California 95531.

FOR FURTHER INFORMATION CONTACT: Julie Ranieri, Committee Coordinator, Six Rivers National Forest, 1330 Bayshore Way, Eureka, CA 95503; (707) 441-3673; e-mail jranieri@fs.fed.us.

SUPPLEMENTARY INFORMATION: The meeting is open to the public. Agenda items to be covered include: (1) Welcome and Committee introductions; (2) Federal Advisory Committee Act overview; (3) review of Secure Rural Schools Act and discussion of requirements related to Title II funding; (4) discussion of Committee member and Designated Federal Official roles and (5) review operational guidelines; (6) selection of RAC Chair; (7) next meeting purpose, location, and date; (8) and receive public comment. Public input opportunity will be provided and individuals will have the opportunity to address the Committee at that time.

Dated: March 2, 2010.
Tyrone Kelley,
Forest Supervisor.

[FR Doc. 2010-4928 Filed 3-9-10; 8:45 am]

BILLING CODE M